ENVIRONMENTAL PROTECTION AGENCY

[FRL-12076-01-OA]

Farm, Ranch, and Rural Communities Advisory Committee (FRRCC); Call for Nominations

AGENCY: Environmental Protection Agency (EPA).

ACTION: Notice request for nominations.

SUMMARY: The Environmental Protection Agency (EPA) is inviting nominations for membership on the Farm, Ranch, and Rural Communities Advisory Committee (FRRCC). The purpose of the FRRCC is to provide policy advice, information, and recommendations to the EPA Administrator on a range of environmental issues and policies that are of importance to agriculture and rural communities.

DATES: To be considered for 2024 appointments, nominations should be submitted no later than September 5, 2024.

ADDRESSES: Submit nominations electronically with the subject line “FRRCC Membership 2024” to FRRCC@epa.gov.

General information regarding the FRRCC can be found on the EPA website at: www.epa.gov/faca/frrcc. General information about federal advisory committees at EPA is available at www.epa.gov/faca.

FOR FURTHER INFORMATION CONTACT: Dr. Venus Welch-White, designated federal officer for the FRRCC, U.S. EPA, 1200 Pennsylvania Avenue NW, Mail Code 1101A, Washington, DC 20460; telephone number: 202-564-7719; email address: FRRCC@epa.gov.

SUPPLEMENTARY INFORMATION:

I. Background

EPA established the FRRCC in 2008 pursuant to the Federal Advisory Committee Act, Public Law 92-463, in order to help EPA build a more positive and proactive relationship with the agricultural industry in furtherance of EPA's mission to protect human health and the environment. The FRRCC serves as part of EPA's efforts to expand cooperative working relationships with the agriculture community and others who are interested in agricultural issues and achieving greater progress in environmental protection. The FRRCC provides advice and recommendations to the EPA Administrator on environmental issues and programs that impact, or are of concern to, farms, ranches, and rural communities. Topics addressed may include climate change, water or air quality issues, pesticides, toxics, food loss and waste, environmental justice, emergency response, enforcement and compliance, technology and innovation, and other topics of environmental importance pertaining to agriculture and rural communities. The charter for the FRRCC was renewed in January 2024. EPA is currently seeking members for the committee, who will be appointed for two- or three-year terms and may be eligible for reappointment. The membership of this committee will include a balanced representation of interested persons with relevant experience to contribute to the functions of the committee, and will be drawn from relevant sectors, including but not limited to academia, agricultural industry, nongovernmental organizations, and state, local, and tribal governments.

The full committee expects to meet approximately twice a year, or as needed and approved by the designated federal officer (DFO). Meetings will be hybrid, with the in person conducted in Washington, DC, and/or within the EPA regions. The Administrator may ask members to serve on subcommittees and workgroups to develop reports and recommendations to address specific policy issues, reflecting the priorities of the administration. The average workload for members is approximately five hours per month. Members serve on the committee in a voluntary capacity. Although we are unable to offer compensation or an honorarium, members may receive travel and per diem allowances, according to applicable Federal travel regulations and the agency's budget.

II. Eligibility

Because of the nature of the issues to be discussed, it is the intent of the Agency for the majority of Committee members- to be actively engaged in farming or ranching. The membership of this committee will include a balanced representation of interested persons with relevant experience to contribute to the functions of the committee and will be drawn from a variety of relevant sectors. Members may represent farmers, ranchers, and rural communities (can include large, small, crop, livestock, commodity, and specialty producers from various regions)—and their allied industries (farm groups, rural suppliers, marketers, processors, etc.) as well as the academic/research community who research environmental issues impacting agriculture, tribal agriculture groups, state, local, and tribal government, and environmental/conservation and other nongovernmental organizations. Individuals are generally appointed to serve on the FRRCC as “Representative” members and are thus expected to represent the points of view of a particular group (e.g., an industry sector), rather than provide independent judgment and expertise. Other Federal agencies and other sectors as appropriate may be invited to attend or provide presentations at committee meetings as non-members.

In accordance with Executive Order 14035 (June 25, 2021) and consistent with law, EPA values and welcomes opportunities to increase diversity, equity, inclusion, and accessibility on its federal advisory committees. EPA's federal advisory committees have a workforce that reflects the diversity of the American people.

In selecting committee members, EPA will consider each candidate's qualifications including, but not limited to, on whether the candidate is:

• Is actively engaged in farming

• Occupies a senior position within their organization

• Holds leadership positions in ag-related organizations, businesses and/or workgroups

• Has broad agricultural experience regardless of their current position

• Has experience working on issues where building consensus is necessary

• Has membership in professional societies, broad-based networks or the equivalent

• Has extensive experience in the environmental field dealing with agricultural issues

• Provides services to producers

• Is involved in processing, retailing, manufacturing, and distribution of agricultural products

• Possesses a professional knowledge of agricultural issues and environmental policy

• Possesses a demonstrated ability to examine and analyze complicated environmental issues with objectivity and integrity

• Possesses excellent interpersonal as well as oral and written communication skills

• Possesses an ability and willingness to participate in a deliberative and collaborative process

In addition, well-qualified applicants must be prepared to process a substantial amount of complex and technical information and the ability to volunteer several hours per month to the committee's activities, including participation in teleconference meetings and preparation of text for committee reports.

III. Nominations

Any interested person or organization may submit the names of qualified persons, including themselves. To be considered, all nominations should include the information requested below:

• Current contact information for the nominee, including the nominee's name, organization (and position within that organization), business address, email address, and daytime telephone number(s).

• A brief statement describing the nominee's interest and availability in serving on the FRRCC. Please also include the following information, as available: (1) The nominee's ability to serve as a “Representative” member and represent the point of view of a group (e.g., an industry sector) rather than provide independent judgment and expertise; (2) if the nominee has any prior/current service on Federal advisory committees, and the number of years.

• Résumé or curriculum vitae detailing the nominee's background, experience and qualifications and other relevant information.

Letters of support and recommendation will be accepted but are not mandatory. To help the agency evaluate the effectiveness of its outreach efforts, please indicate how you learned of this nomination opportunity.

Other sources, in addition to this Federal Register notice, may be utilized in the solicitation of nominees. EPA expressly values diversity, equity, and inclusion, and encourages the nominations of interested individuals from diverse backgrounds. Individuals may self-nominate.

Venus Welch-White,
Acting Deputy Director, Office of Agriculture and Rural Affairs.

[FR Doc. 2024-15982 Filed 7-19-24; 8:45 am]

BILLING CODE P